GENERAL SERVICES ADMINISTRATION

[Notice-PBS-2016-02; Docket No. 2016-0002; Sequence No. 27]

Notice of Intent To Prepare an Environmental Impact Statement for the Proposed Department of Labor Headquarters Consolidation and Exchange of the Frances Perkins Building

AGENCY: Public Building Service (PBS), General Services Administration (GSA).

ACTION: Notice of intent to prepare an environmental impact statement and public meeting.

SUMMARY: Pursuant to the requirements of the National Environmental Policy Act of 1969 (NEPA), GSA plans to prepare an Environmental Impact Statement (EIS) for the proposed Department of Labor Headquarters (DOL HQ) Consolidation to guide the evaluation of alternatives for a new permanent location for the DOL HQ, and to look at the impacts from the exchange of the Frances Perkins Building. GSA also will be initiating related consultation under Section 106 of the National Historic Preservation Act (NHPA) for the project.

DATES: Effective: January 23, 2017.

The public scoping meeting dates and location addresses are:

1. NoMa Site: Tuesday, February 7, 2017 from 6:30 p.m. until 8:30 p.m. Eastern Standard Time. Address: 1200 First Street NE., Washington, DC 20402.

2. Capitol Riverfront and Poplar Point Sites: Wednesday, February 8, 2017 from 6:30 p.m. until 8:30 p.m. Eastern Standard Time. Address: Southwest Neighborhood Library, 900 Wesley Place SW., Washington, DC 20024.

3. Frances Perkins Building location: Thursday, February 9, 2017 from 6:30 p.m. until 8:30 p.m. eastern standard time. Address: Martin Luther King Jr. Memorial Library, 901 G Street NW., Washington, DC 20001.

FOR FURTHER INFORMATION CONTACT: Alexis Gray, NEPA Compliance Specialist, GSA, National Capital Region, at 202-260-6895. Also, please call this number if special assistance is needed to attend and participate in the scoping meeting.

SUPPLEMENTARY INFORMATION: Pursuant to the requirements of the National Environmental Policy Act of 1969 (NEPA), 42 United States Code (U.S.C.) 4321-4347; the Council on Environmental Quality Regulations (Code of Federal Regulations (CFR), Title 40, chapter V, parts 1500-1508); and the GSA Public Buildings Service NEPA Desk Guide, dated October 1999, GSA plans to prepare an Environmental Impact Statement (EIS) for the proposed DOL HQ Consolidation to guide the evaluation of alternatives for a new permanent location for the DOL HQ. GSA also will be initiating related consultation under Section 106 of the National Historic Preservation Act (NHPA), 36 CFR part 800 (Protection of Historic Properties) for the project.

GSA intends to prepare an EIS to analyze the potential impacts resulting from the proposed action, which encompasses two parts: (1) Acquisition of a consolidated DOL HQ at a new permanent location; and (2) exchange of the Frances Perkins Building parcel.

Background

The purpose of the proposed action is to: (1) Consolidate the existing DOL HQ offices and divisions into one location in Washington, DC; and (2) provide the DOL with a headquarters facility that meets the Interagency Security Council (ISC) Level III security standards.

A consolidated DOL HQ is needed to consolidate approximately 4,400 DOL personnel currently scattered in both federally-owned and leased locations into one federally-owned building. Currently, the Frances Perkins building is outdated with inefficient floor plates and support spaces that impede more than aid the agency in performing its missions. In addition to the age of the property and the building's inefficiencies, there are significant costs for repair and replacement of major building systems.

GSA is the lead agency for the DOL HQ consolidation and exchange of Frances Perkins, and associated NEPA and NHPA compliance. DOL and the National Capital Planning Commission are cooperating agencies for NEPA and signatories for NHPA.

Frances Perkins Building Exchange

The new DOL HQ would be built by a developer, on one of the acceptable sites identified by GSA and DOL through a site selection process that concluded with an announcement of shortlisted sites on November 29, 2016. Following construction of the new DOL HQ and acceptance of the DOL HQ by GSA, the title to Frances Perkins will be transferred to the developer to offset the cost of the new DOL HQ.

Alternatives Under Consideration

As part of the EIS, GSA will study the impacts of developing approximately 1 million rentable square feet consolidated DOL HQ on three site alternatives. These sites are:

• Site 1 NoMa—this site is located at the intersection of North Capitol Street and New York Avenue in the Northeast quadrant of Washington, DC.

• Site 2 Capitol Riverfront—this site is located at the intersection of M Street and South Capitol Street in the Southwest quadrant of Washington, DC.

• Site 3 Poplar Point—this site is located in Anacostia and bordered by interstate 295, Howard Road and Suitland Parkway in the Southeast quadrant of Washington, DC.

Additionally, GSA will study potential indirect impacts related to the exchange of the Frances Perkins parcel. GSA also will evaluate a “No Action Alternative”, in which DOL would remain in its current locations without consolidation at a new permanent location.

Resource areas to be addressed in the EIS will include, but not be limited to: air quality, noise, land use, socioeconomics, traffic and transportation, infrastructure and community services, natural resources, biological resources, cultural resources, and safety and environmental hazards. The analysis will evaluate direct, indirect, and cumulative impacts. Relevant and reasonable measures that could avoid or mitigate environmental effects will also be analyzed. In conjunction with the NEPA process, GSA will undertake any consultations required by applicable laws or regulations, including NHPA.

Scoping Process

In accordance with NEPA, a scoping process will be conducted to: (1) Aid in determining the alternatives to be considered and the scope of issues to be addressed; and (2) identify the significant environmental issues related to the proposed DOL HQ consolidation that should be addressed during the preparation of the Draft EIS. Scoping will be accomplished through a series of public scoping meetings; mail and email correspondence to potentially interested persons, agencies, and organizations; social media and other web-based communications; and meetings with agencies having an interest in the DOL HQ consolidation. GSA is also using the NEPA scoping process to facilitate consultation with the public under Section 106 of the NHPA (36 CFR part 800). GSA welcomes comments from the public to ensure that the agency takes into account the effects of the proposed action on historic and cultural resources.

GSA will publish announcement notices in the Washington Post and the Washington Business Journal approximately one to two weeks prior to the public scoping meetings. After receiving scoping comments, GSA will respond to them in the EIS and through the Section 106 consultation process. GSA will make available to the public a comment/response matrix summarizing the scoping and Section 106 comments in the Draft and Final EIS.

Written Comments: Agencies and the public are encouraged to provide written comments on the scoping issues related to the EIS for the proposed DOL HQ consolidation in addition to, or in lieu of, providing comments at the public scoping meeting. Written comments must be postmarked no later than March 1, 2017, and sent to the General Services Administration, Attention: Alexis Gray, NEPA Compliance Specialist, 301 7th Street SW., Room 4004, Washington, DC 20407. Email: alexis.gray@gsa.gov using the subject line: DOL NEPA Scoping Comment. Comments may also be submitted via the Web site: www.gsa.gov/dolhqexchange.

Dated: January 13, 2017.
Mina Wright,
Director, Office of Planning and Design Quality, National Capital Region, Public Buildings Service, General Services Administration.

[FR Doc. 2017-01380 Filed 1-19-17; 8:45 am]

BILLING CODE 6820-Y1-P